DEPARTMENT OF COMMERCE

International Trade Administration

[A-588-843, A-580-829, A-583-828]

Stainless Steel Wire Rod From Japan, the Republic of Korea, and Taiwan: Final Results of the Expedited Sunset Reviews of the Antidumping Duty Orders

AGENCY: Enforcement and Compliance, International Trade Administration, Department of Commerce.

SUMMARY: As a result of these expedited sunset reviews, the Department of Commerce (Commerce) finds that revocation of the antidumping duty (AD) orders on stainless steel wire rod (SSWR) from Japan, the Republic of Korea (Korea), and Taiwan would be likely to lead to continuation or recurrence of dumping as indicated in the “Final Results of Sunset Reviews” section of this notice.

DATES: Applicable October 8, 2021.

FOR FURTHER INFORMATION CONTACT: Christopher Williams or Minoo Hatten, AD/CVD Operations, Office I, Enforcement and Compliance, International Trade Administration, U.S. Department of Commerce, 1401 Constitution Avenue NW, Washington, DC 20230; telephone: (202) 482-5166 or (202) 482-1690, respectively.

SUPPLEMENTARY INFORMATION:

Background

On July 1, 2021, Commerce published the notice of initiation of the sunset reviews of the AD orders on stainless steel wire rod (SSWR) from Japan, the Republic of Korea (Korea), and Taiwan ¹ pursuant to section 751(c) of the Tariff Act of 1930, as amended (the Act).² In accordance with 19 CFR 351.218(d)(1)(i) and (ii), Commerce received notices of intent to participate in these sunset reviews from the domestic interested parties ³ within 15 days after the date of publication of the Initiation Notice.⁴ The domestic interested parties claimed interested party status under sections 771(9)(C) and (E) of the Act.

¹ See Notice of Amendment of Final Determination of Sales at Less Than Fair Value and Antidumping Duty Order: Stainless Steel Wire Rod from Korea, 63 FR 49331 (September 15, 1998); see also Notice of Antidumping Duty Order: Stainless Steel Wire Rod from Japan, 63 FR 49328 (September 15, 1998); and Notice of Amendment of Final Determination of Sales at Less Than Fair Value and Antidumping Duty Order: Stainless Steel Wire Rod from Taiwan, 63 FR 49332 (September 15, 1998) (collectively, AD Orders).

² See Initiation of Five-Year (Sunset) Reviews, 86 FR 35070 (July 1, 2021) (Initiation Notice).

³ The domestic interested parties are Carpenter Technology Corporation (Carpenter), North American Stainless (NAS), and Universal Stainless & Alloy Products, Inc. (Universal) (collectively, domestic interested parties).

⁴ See Domestic Interested Parties' Letters, “Five Year (`Sunset') Review of the Antidumping Duty Order on Stainless Steel Wire Rod from Japan—Domestic Interested Parties' Notice of Intent to Participate,” dated July 15, 2021; see also “Five Year (`Sunset') Review of the Antidumping Duty Order on Stainless Steel Wire Rod from the Republic of Korea—Domestic Interested Parties' Notice of Intent to Participate,” dated July 15, 2021; and “Five Year (`Sunset') Review of the Antidumping Duty Order on Stainless Steel Wire Rod from Taiwan—Domestic Interested Parties' Notice of Intent to Participate,” dated July 15, 2021.

Commerce received adequate substantive responses to the Initiation Notice from the domestic interested parties within the 30-day period specified in 19 CFR 351.218(d)(3)(i).⁵ Commerce received no substantive responses from any respondent interested parties. In accordance with section 751(c)(3)(B) of the Act and 19 CFR 351.218(e)(1)(ii)(C)(2), Commerce conducted expedited, i.e., 120-day, sunset reviews of the AD Orders.

⁵ See Domestic Interested Parties' Letters, “Five-Year (`Sunset') Review of Antidumping Duty Order on Stainless Steel Wire Rod from Japan—Domestic Interested Parties' Substantive Response,” dated August 2, 2021; “Five-Year (`Sunset') Review Of Antidumping Duty Order on Stainless Steel Wire Rod from the Republic of Korea—Domestic Interested Parties' Substantive Response,” dated August 2, 2021; and “Five-Year (`Sunset') Review of Antidumping Duty Order on Stainless Steel Wire Rod from Taiwan—Domestic Interested Parties' Substantive Response,” dated August 2, 2021.

Scope of the Orders

The merchandise subject to the AD Orders is SSWR which is currently classified under subheading 7221.00.0005, 7221.00.0015, 7221.00.0030, 7221.00.0045, and 7221.00.0075 of the Harmonized Tariff Schedule of the United States (HTSUS). The HTSUS subheading is provided for convenience and customs purposes. A full description of the scopes of the AD Orders is contained in the Issues and Decision Memorandum.⁶ The written description is dispositive.

⁶ See Memorandum, “Issues and Decision Memorandum for the Expedited Sunset Reviews of the Antidumping Duty Orders on Stainless Steel Wire Rod from Japan, the Republic of Korea, and Taiwan,” dated concurrently with, and hereby adopted by, this notice (Issues and Decision Memorandum).

Analysis of Comments Received

All issues raised in this review are addressed in the Issues and Decision Memorandum, including the likelihood of continuation or recurrence of dumping in the event of revocation and the magnitude of dumping margins likely to prevail if the order was revoked. Parties can find a complete discussion of all issues raised in this review and the corresponding recommendations in the Issues and Decision Memorandum, which is on file electronically via Enforcement and Compliance's Antidumping and Countervailing Duty Centralized Electronic Service System (ACCESS). ACCESS is available to registered users at http://access.trade.gov. In addition, a complete version of the Issues and Decision Memorandum can be found at https://access.trade.gov/public/FRNoticesListLayout.aspx.

Final Results of Sunset Reviews

Pursuant to sections 751(c) and 752(c) of the Act, Commerce determines that revocation of the AD Orders would be likely to lead to continuation or recurrence of dumping and the magnitude of the margins of dumping likely to prevail would be weighted-average margins up to the following percentages:

Country | Weighted- average dumping margin (percent)
Japan | 33.58
Korea | 28.44
Taiwan | 2.22

Notification Regarding Administrative Protective Orders

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: October 4, 2021.
Christian Marsh,
Acting Assistant Secretary for Enforcement and Compliance.

Appendix—List of Topics Discussed in the Issues and Decision Memorandum

I. Summary

II. Background

III. Scope of the Orders

IV. History of the Orders

V. Legal Framework

VI. Discussion of the Issues

VII. Final Results of Expedited Sunset Reviews

VIII. Recommendation

[FR Doc. 2021-22030 Filed 10-7-21; 8:45 am]

BILLING CODE 3510-DS-P